DEPARTMENT OF TRANSPORTATION

Federal Railroad Administration

[Docket Number FRA-2011-0107]

Petition for Waiver of Compliance

In accordance with part 213 of title 49 Code of Federal Regulations (CFR), notice is hereby given that the Federal Railroad Administration (FRA) has received a request for a waiver of compliance from certain requirements of its safety standards. By a document dated December 28, 2011, CSX Transportation (CSX) petitions FRA for a waiver from certain rail testing requirements contained in 49 CFR part 213. FRA assigned the petition Docket Number FRA-2011-0107.

Pursuant to 49 CFR Section 213.113(a), CSX requests a waiver from the accepted practice of stop/start rail testing for phase III of its nonstop continuous rail test pilot project beginning April 1, 2012, for a period of up to 1 year on the main tracks between Richmond, VA, and Charleston, SC. The subdivisions that would be traversed are the North End, South End, and Charleston.

Based on the results of the previous phases of nonstop continuous rail test, CSX will not perform parallel or redundant start/stop rail testing on track segments being nonstop continuous rail tested under this waiver. Instead, CSX proposes to produce nonstop continuous rail test reports every 2 weeks for review by FRA's Rail and Infrastructure Integrity Division. As CSX develops confidence in the performance of the system, and as agreed by CSX and FRA, it proposes to expand the test area to include the tracks between Richmond, VA, and Jacksonville, FL, and test on a monthly basis.

The nonstop continuous high-speed rail test vehicle will be a self-propelled ultrasonic/induction flaw detection vehicle operating at speeds up to 30 mph. This vehicle will be making runs every 2 weeks over the assigned territory. Upon completion of each run, data will be analyzed offline by a group of experts with experience in this process. The analysis will categorize and prioritize suspect defective locations for post-test verification. Verifiers will then be sent out with field instruments to check these suspect locations based upon Global Positioning System (GPS) coordinates. All suspect locations will be checked 60 feet on either side of the suspect GPS location. Remedial actions will be applied, as per 49 CFR Section 213.113, for confirmed rail defects. CSX believes that nonstop continuous rail testing will provide the capability to test track more quickly and frequently, and minimize the risk of rail service failures.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2011-0107) and may be submitted by any of the following methods:

• Web site: http://www.regulations.gov. Follow the online instructions for submitting comments.

• Fax: 202 493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9:00 a.m.-5:00 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on February 8, 2012.
Ron Hynes,
Acting Deputy Associate Administrator for Regulatory and Legislative Operations.

[FR Doc. 2012-3346 Filed 2-13-12; 8:45 am]

BILLING CODE 4910-06-P